DEPARTMENT OF JUSTICE

Office of Justice Programs

[OJP (OJJDP)-1291]

Field-Initiated Research and Evaluation Program

AGENCY: Office of Juvenile Justice and Delinquency Prevention, Office of Justice Programs, Justice.

ACTION: Notice of solicitation.

SUMMARY: The Office of Juvenile Justice and Delinquency Prevention (OJJDP) is issuing a solicitation for applications from public and private agencies, organizations, institutions, tribal and Alaskan Native communities, and individuals to conduct research and evaluation projects in a wide range of topical areas that will enhance, inform, and advance knowledge in the field of juvenile justice.

DATES: Applications under this program must be received no later than 5 p.m. ET on October 6, 2000.

ADDRESSES: All application packages should be mailed or delivered to the Office of Juvenile Justice and Delinquency Prevention, c/o Juvenile Justice Resource Center, 2277 Research Boulevard, Mail Stop 2K, Rockville, MD 20850; 301-519-5535. Faxed or e-mailed applications will not be accepted. Interested applicants can obtain the OJJDP Application Kit from the Juvenile Justice Clearinghouse at 800-638-8736. The application kit is also available at OJJDP's Web site at www.ojjdp.ncjrs.org/grants/about.html#kit. (See “Format” in this program announcement for instructions on application standards.)

FOR FURTHER INFORMATION CONTACT: Jeff Slowikowski, Acting Deputy Director, Research and Program Development Division, Office of Juvenile Justice and Delinquency Prevention, 810 Seventh Street NW., Washington, DC 20531; phone: 202-307-5929. [This is not a toll-free number.]

Purpose

The purpose of this program is to generate high-quality research and evaluation that will inform and enhance the field of juvenile justice and delinquency prevention. Applications are encouraged from researchers and evaluators in all academic disciplines using either traditional and tested or innovative methodological strategies. The ideal project will not only increase the knowledge base regarding juvenile delinquency and problem behaviors but also will have practical implications for juvenile justice policy and practice.

Background

Since its inception in 1974, the Office of Juvenile Justice and Delinquency Prevention (OJJDP) has been charged with sponsoring research on juvenile crime and victimization (Juvenile Justice and Delinquency Prevention Act of 1974, as amended, 42 U.S.C. 5653). OJJDP-sponsored research has advanced understanding of juvenile crime and its impact on society. It has informed and influenced the juvenile justice field in the areas of prevention, early intervention, and graduated sanctions.

In general, OJJDP funds research activities that derive from congressional mandates or address statutory priority areas that are narrowly defined. However, many creative and important research ideas deserving support arise outside the Federal Government and Congress. The Field-Initiated Research and Evaluation Program allows OJJDP to provide flexible funding for innovative and rigorous research and evaluation that supports the mission of the Office. In past years, OJJDP has supported field-initiated research and evaluation on such topics as gangs in correctional institutions, mental health services in the juvenile justice system, Native American issues, juvenile sex offending, and programs for female offenders.

An important factor in application development will be demonstrating a sufficient knowledge and understanding of OJJDP's current research and evaluation portfolio. Applicants are expected to identify current OJJDP research and evaluation programs that focus on the topic being proposed, describing how the proposed research will enhance or complement the existing work of OJJDP and the field. Information on the programs being funded by OJJDP can be obtained in several ways. One resource is the OJJDP Web site (www.http://ojjdp.ncjrs.org), which includes information on current and past funding opportunities (click on Grants & Funding). Past years' Program Plans, which also are available on OJJDP's Web site under Grants & Funding, can provide a general idea of the research and evaluation that OJJDP is currently conducting. Finally, the report OJJDP Research: Making a Difference for Juveniles (NCJ 177602), available from OJJDP's Juvenile Justice Clearinghouse (800-638-8736) or on OJJDP's Web site under Publications, provides a detailed description of the research and evaluation programs currently being funded by OJJDP.

In fiscal year (FY) 2000, OJJDP seeks applications on a broad range of research and evaluation ideas. When applying for funds under this program, applicants should submit proposals on topics relevant to Federal, State, or local juvenile justice policy or practice. OJJDP is interested in expanding the scope of existing research and evaluations and the range of research and evaluation topics. Three areas of particular interest to OJJDP in FY 2000 are programs looking at the waiver or transfer of juveniles to the criminal justice system, evaluation and research projects related to programs under the Juvenile Accountability Incentive Block Grants program, and research or evaluation focused on hate-related behavior. These areas are described below, as is the area of general research, evaluation, and data collection and analysis.

Waiver or Transfer

In the past 10 years, most States have modified their juvenile codes to enable more juveniles (individuals who may be subject to the delinquency jurisdiction of State courts based on age and offense limitations established by law) to be subject to the jurisdiction of adult criminal courts. The effect of these laws has been not only the waiving or transferring of a larger number of juveniles to the criminal justice system but also the waiving or transferring of younger juveniles to the criminal justice system. At the end of their 1997 legislative sessions, all but five States provided for discretionary waiver of certain juveniles to criminal court. Between 1987 and 1994, the number of delinquency cases judicially waived to criminal court grew 73 percent (Stahl, 1999). Since 1994, the numbers have declined. One reason for the decline is the large number of States that passed legislation that transferred the original jurisdiction of juveniles to the criminal justice system, thus removing large numbers of juveniles from ever being processed by the juvenile justice system. The Bureau of Justice Statistics estimated that the number of persons less than 18 years of age being held in State prisons more than doubled between 1985 and 1997 (Strom, 2000).

Waivers and transfers of the most serious, violent, and chronic juvenile offenders—who have proven to be unamenable to treatment in the juvenile justice system—may be required in order to protect society and other juveniles in custody.

To increase knowledge and understanding about waivers, applicants are encouraged to address critical aspects of waiver or transfer. These areas include, but are not limited to, the following: assessing the current number and types of juvenile cases being filed in criminal court and the manner in which those cases are processed, disposed, and sentenced; assessing the current number and types of juveniles under supervision in adult detention, corrections, or probation; studying the delivery of services to juveniles in adult facilities; and evaluating the effects on the juvenile justice system of placing juvenile offenders in adult facilities. Research proposals need not be confined to these topics; they are only suggestions meant to encourage creative thinking.

Juvenile Accountability Incentive Block Grants Program

OJJDP's Juvenile Accountability Incentive Block Grants (JAIBG) program provides funding to States and units of local government to implement a variety of program purpose areas. OJJDP is interested in evaluations of programs supported with JAIBG funds awarded by States or units of local government.

Below are brief descriptions of the 12 purpose areas:

• Building, expanding, renovating, or operating temporary or permanent juvenile correction or detention facilities, including training of correctional personnel.

• Developing and administering accountability-based sanctions for juvenile offenders.

• Hiring additional juvenile judges, probation officers, and court-appointed defenders, and funding pretrial services for juveniles to ensure the smooth and expeditious administration of the juvenile justice system.

• Hiring additional prosecutors, so that more cases involving violent juvenile offenders can be prosecuted and backlogs reduced.

• Funding prosecutors to enable them to address drug, gang, and youth violence problems more effectively.

• Funding prosecutors to receive training and technological support in identifying and expediting the prosecution of violent juvenile offenders.

• Funding juvenile courts and juvenile probation offices so that they are more effective and efficient in holding juvenile offenders accountable, and therefore reducing recidivism.

• Establishing and funding juvenile gun courts and court-based programs for the adjudication and prosecution of juvenile firearm offenders so as to provide continuing judicial supervision over juvenile offenders who were charged with a firearm offense.

• Establishing drug courts and court-based programs for juveniles so as to provide continuing judicial supervision over juvenile offenders with substance abuse problems and to provide the integrated administration of other sanctions and services.

• Establishing and maintaining interagency information-sharing programs that enable the juvenile and criminal justice systems, schools, and social services agencies to make more informed decisions regarding the early identification, control, supervision, and treatment of juveniles who repeatedly commit serious delinquent or criminal acts.

• Establishing and maintaining accountability-based programs that work with juvenile offenders who are referred by law enforcement agencies or that are designed, in cooperation with law enforcement officials, to protect students and school personnel from drug, gang, and youth violence.

• Implementing a policy of controlled substance testing for appropriate categories of juveniles within the juvenile justice system.

Evaluation or research projects should be developed around these purpose areas. In accordance with the 12 purpose areas, JAIBG funds support programs in the following areas:

• Additional probation staff.

• Alternatives to incarceration programs.

• Detention building and renovations.

• School resource officers.

• Drug courts and drug testing.

• Electronic monitoring.

• Fingerprinting systems.

• Gang tracking.

• Information systems development.

• Mental health services.

• Prosecutors and public defenders staffing.

• Purchase of residential services.

• Restitution programs.

• Sanction programs.

• School violence programs.

• Teen courts/youth courts.

• Training for teachers and staff in detention centers.

• Day treatment programs.

Research proposals need not be confined to these topics. Research and evaluation under any of the JAIBG purpose areas is acceptable.

Hate- or Bias-Related Behaviors

Juvenile involvement in hate-related crime has not been well researched, and few data are available on hate-related offenses by juveniles or their victimization. In response to the passage of the Hate Crime Statistics Act of 1990, the Attorney General tasked the Federal Bureau of Investigation's (FBI's) Uniform Crime Reporting (UCR) Program to develop and implement a data collection system for its voluntary law enforcement agency participants, numbering nearly 17,000. With the cooperation and assistance of several State and local law enforcement agencies already experienced in the investigation of hate crimes and the collection of related information, comprehensive guidelines for the compilation of hate crime data were established.

The Hate Crime Statistics Act was amended by the Violent Crime Control and Law Enforcement Act of 1994 to include those crimes motivated by a bias against persons with disabilities. In order to comply with this amendment, the FBI began collecting data on disability bias-motivated crimes on January 1, 1997. Also, the Church Arson Prevention Act, signed into law in July 1996, amended the Hate Crime Statistics Act by permanently extending the data collection mandate.

Beginning in 1994, and each year since, the FBI has issued an annual Hate Crime Report that documents the known hate crimes identified through the Uniform Crime Reports for that year. Unfortunately, the FBI's Uniform Crime Reporting Program is not currently able to report on juvenile involvement either as the victim or offender in hate crimes. Although the FBI's National Incident-Based Reporting System (NIBRS) has the capacity to report on age, the data have not been analyzed by age to identify hate or bias crimes committed by or against juveniles.

In July 1996, OJJDP sent a report to Congress detailing the lack of data available on juvenile hate crime. The report was based on a 1995 survey of the 50 State crime statistical analysis centers and the law enforcement agencies in the 79 largest cities in the United States. Only 30 States and 36 law enforcement agencies responded to the survey stating that they collected data on hate crimes. Of the responding States and cities, only six States and seven cities reported annual numbers that included the age of the offender.

OJJDP is interested in research and analysis of juvenile involvement as victims or perpetrators of hate- or bias-related crimes.

General Research, Evaluation, and Data Collection and Analysis

Applications are welcomed and encouraged in other topical areas relevant to the juvenile justice field. Applicants need not apply for one of the “interest areas” to be eligible for funding. The “general research” portion of the Field-Initiated Research and Evaluation Program provides flexible funding for research which, while it may not fit neatly under any of OJJDP's current initiatives, supports the agency's mission in significant and creative ways. The issues and problems currently confronting the juvenile justice system require strategies and solutions that cut across traditional juvenile justice boundaries. Ideally, field-initiated research should have practical implications for juvenile justice policies and practices. The OJJDP FY 1999 field-initiated research program provided funding in these subject areas: evaluation of interventions in youth correctional facilities, evaluation of media literacy on delinquency prevention, research on victimization of youth in and around schools, and research on girls in gangs.

Goal

The goal of the FY 2000 Field-Initiated Research and Evaluation Program is to foster rigorous, original scientific research that uses traditional or innovative methods to further the agency's mission of enhancing the juvenile justice system and preventing juvenile delinquency. Research that demonstrates collaboration among multiple disciplines is strongly encouraged. Project results should be of practical use to practitioners and policymakers and increase the juvenile justice knowledge base.

Objectives

• Promote and support innovative research and evaluation in the field of juvenile justice and delinquency prevention.

• Conceptualize and investigate new research questions in the juvenile justice field.

• Develop new methodological approaches to addressing priority issues.

• Develop knowledge that can be used to craft effective programs, policies, and strategies for reducing and preventing juvenile delinquency and victimization.

• Conduct research that will enhance the ability of the juvenile justice system to respond to the needs of both juvenile offenders and society at large.

Products

Proposals should contain a description of all products that will originate from the project. At a minimum, each grantee will be required to produce a Fact Sheet summarizing the findings of the research and a final report that provides an overview of the research project. This overview should contain the following: (1) The theory and hypotheses guiding the work, (2) a description of the research or evaluation methods, (3) research and evaluation results (both significant and nonsignificant), (4) any practical or policy implications of the results, and (5) recommendations for future study. Grantees should indicate in their final report how their work might contribute to defining and/or implementing best practices in the field of juvenile justice. This final report may be published as an OJJDP Report. Applicants are also strongly encouraged to consider submitting their results for publication in a refereed journal. This report should be completed within 60 days of the grant's closing date.

Eligibility Requirements

OJJDP invites applications from public and private agencies, organizations, institutions, tribal and Alaskan Native communities, and individuals, or any combination of these entities. Private, for-profit organizations must agree to waive any profit or fee. In the case of joint applications, one applicant must be clearly indicated as primary (for correspondence and award purposes) and the other(s) listed as coapplicant(s). OJJDP encourages collaborative relationships among researchers, practitioners, and tribal entities. If the research is of a collaborative nature, written assurances of the collaboration should be provided. Similarly, when specific programs or agencies are the subject of an applicant's research or evaluation, the application should include letters of commitment or cooperation from the relevant program or agency. Applicants are encouraged to identify existing or potential funding partners for the proposed work and indicate whether the proposed idea has been submitted to any other funding sources. Finally, applicants must demonstrate that they have experience or ability related to the type of research or evaluation that they are proposing to conduct.

Selection Criteria

Applications will be evaluated and rated by a peer review panel according to the criteria outlined below. In addition, the extent to which the project narrative makes clear and logical connections among the components listed below will be considered in assessing a project's merits.

Problem(s) To Be Addressed (20 points)

Applicants must include a clear description of the research questions to be addressed in the project narrative. Applicants should discuss how previous research supports and shapes these questions and should identify the relevance of these questions for the field of juvenile justice. The proposed research will be judged on its ability to contribute to knowledge and practice in the field of juvenile justice and delinquency prevention.

Goals and Objectives (10 points)

The application must include goals and objectives that are clear, concrete, and relevant to the field of juvenile justice. Goals should address the problems directly. Objectives should consist of clearly defined, measurable tasks that will enable the applicant to achieve the goals of the project.

Project Design (40 points)

The application should present the design of the project in detail. Design elements should follow directly from the project's goals and objectives. The data to be collected and/or analyzed should clearly support the project's goals and objectives. The applicant should describe the research or evaluation methodology in detail and demonstrate the validity and usefulness of the data that will be collected and/or analyzed. The application must include a timeline that indicates when specific tasks will be initiated and completed. The timeline should be referenced as appropriate in the narrative but should also be placed in appendix A of the application.

Management and Organizational Capability (20 points)

Applicants must demonstrate the existence of a management structure that will support the achievement of the project's goals and objectives in an efficient and cost-effective manner. In particular, applicants must ensure that the tasks delineated in the project timeline (see “Project Design” above) are adequately staffed. Résumés for key staff members should be included in appendix B. Applicants should also demonstrate the organizational capacity to complete the work described in the “Project Design” section. The applicant should include a description of any similar projects it has undertaken previously and should also demonstrate knowledge and experience related to juvenile justice issues. In addition, applicants should provide evidence of their ability to work collaboratively with juvenile justice system practitioners or service providers, particularly in the project's area of study. For research that involves specific agencies, organizations, or programs, including those under governmental or tribal auspices, applicants should submit appropriate letters of cooperation in appendix C.

Budget (10 points)

Applicants must provide a proposed budget that is complete, detailed, reasonable, allowable, and cost effective in relation to the activities to be undertaken. All budgeted costs should be directly related to the achievement of project goals and objectives. A brief budget narrative should be included in this section. Applicants are encouraged to identify existing or potential funding partners.

Format

The narrative portion of the application must be submitted on 8½-by 11-inch paper using a standard 12-point font and should not exceed 30 pages in total length. This page limit does not include the budget narrative, appendixes, application forms, assurances, or Privacy Certificate. The application should be double spaced and printed on one side of the paper only with at least 1-inch margins. The narrative should be preceded by an abstract with a maximum length of 300 words. At the end of the program narrative, applicants must indicate the author(s) responsible for each of the narrative sections. Appendix A should contain the project's timeline with dates for initiation and completion of critical project tasks. Appendix B should contain the résumés for the principal investigator and key staff members. Appendix C should include all necessary letters of cooperation or support.

These requirements are necessary to maintain a fair and uniform set of standards among all applicants. If the application fails to conform to these standards, it will not be eligible for consideration.

Award Period

The project period and budget period for all field-initiated awards will be for up to 2 years. Applicants that envision longer project periods will need to show that additional funding will not be necessary or will be obtained from other sources.

Award Amount

Up to $1,250,000 available for OJJDP's FY 2000 Field-Initiated Research and Evaluation Program. Individual grant amounts, which will be subject to negotiation, will not exceed $200,000 per project. Projects that require additional funds must demonstrate that those funds have been secured and identify the funding source(s).

Human Subjects

Applicants are advised that any project that will involve the use of human research subjects must be reviewed by an Institutional Review Board (IRB), in accordance with U.S. Department of Justice regulations at 28 CFR Part 46. IRB review is not required prior to submission of the application. However, if an award is made and the project involves research using human subjects, OJJDP will place a special condition on the award requiring that the project be approved by an appropriate IRB before Federal funds can be expended on human subjects activities. Applicants should include plans for IRB review, where applicable, in the project timeline submitted with the proposal.

Catalog of Federal Domestic Assistance (CFDA) Number

For all these programs, the CFDA number, required on Standard Form 424, “Application for Federal Assistance,” is 16.542. Standard Form 424 is included in the OJJDP Application Kit, which can be obtained by contacting the Juvenile Justice Clearinghouse at 800-638-8736 or sending an e-mail request to puborder@ncjrs.org. The Application Kit is also available online at www.ojjdp.ncjrs.org/grants/about.html#kit.

Coordination of Federal Efforts

To encourage better coordination among Federal agencies in addressing State and local needs, the U.S. Department of Justice is requiring applicants to provide information on the following: (1) Active Federal grant awards supporting this project or related efforts, including other awards from the Department of Justice; (2) any pending applications for Federal funds for this or related efforts; and (3) plans for coordinating any funds described in items (1) and (2) with the funding sought by this application. For each Federal award, applicants must include the program or project title, the Federal grantor agency, the amount of the award, and a brief description of its purpose.

The term “related efforts” is defined for these purposes as one of the following:

• Efforts for the same purpose (i.e., the proposed project would supplement, expand, complement, or continue activities funded with other Federal grants).

• Another phase or component of the same program or project (e.g., to implement a planning effort funded by other Federal monies or to provide a substance abuse treatment or educational component within an existing juvenile justice project).

• Services of some kind (e.g., technical assistance, research, or evaluation) to the program or project described in the application.

Delivery Instructions

All application packages should be mailed or delivered to the Office of Juvenile Justice and Delinquency Prevention, c/o Juvenile Justice Resource Center, 2277 Research Boulevard, Mail Stop 2K, Rockville, MD 20850; 301-519-5535. Faxed or e-mailed applications will not be accepted. Note: In the lower left-hand corner of the envelope, the applicant must clearly write “Field-Initiated Research and Evaluation Program.”

Due Date

Applicants are responsible for ensuring that the original and five copies of the application package are received by 5 p.m. ET on October 6, 2000.

Contact

For further information, contact Jeff Slowikowski, Research and Program Development Division, at 202-307-5929 or send an e-mail inquiry to Jeff@ojp.usdoj.gov.

References

Stahl, A. 1999. Delinquency Cases Waived to Criminal Court, 1987-1996. Washington, DC: U.S. Department of Justice, Office of Justice Programs, Office of Juvenile Justice and Delinquency Prevention.

Strom, K. 2000. Profile of State Prisoners Under Age 18, 1985-97. Washington, DC: U.S. Department of Justice, Office of Justice Programs, Bureau of Justice Statistics.

Dated: August 16, 2000.
John J. Wilson,
Acting Administrator, Office of Juvenile Justice and Delinquency Prevention.

[FR Doc. 00-21326 Filed 8-21-00; 8:45 am]

BILLING CODE 4410-18-P